DEPARTMENT OF ENERGY

Federal Energy Regulatory Commission

[Project No. 2157-188]

Public Utility District No.1 of Snohomish County; Notice of Settlement Agreement and Soliciting Comments, Extending Due Date for Filing Motions To Intervene and Protests, Comments, Recommendations, Preliminary Terms and Conditions, and Preliminary Fishway Prescriptions, and Modifying Process Plan

October 15, 2009.

Take notice that the following Settlement Agreement (Settlement) has been filed with the Commission and is available for public inspection.

a. Type of Application: Settlement Agreement.

b. Project No.: P-2157-188.

c. Date Filed: October 14, 2009.

d. Applicant: Public Utility District No. 1 of Snohomish County.

e. Name of Project: Henry M. Jackson Hydroelectric Project.

f. Location: The existing project is located on the Sultan River in Snohomish County, Washington, about 20 miles east of Everett, Washington. The project penstock underlies 10.9 acres of Mount Baker-Snoqualmie National Forest.

g. Filed Pursuant to: Rule 602 of the Commission's Rules of Practice and Procedure, 18 CFR 385.602, Federal Power Act 16 U.S.C. 791 (a)—825(r)

h. Applicant Contact: Public Utility District No. 1 of Snohomish County (District), Steven J. Klein, General Manager, 2320 California Street, P.O. Box 1107, Everett, WA 98206-1107.

i. FERC Contact: David Turner (202) 502-6091 or via e-mail at david.turner@ferc.gov.

j. Deadline for filing comments on the Settlement: November 6, 2009. Reply comments due December 21, 2009. All documents (original and eight copies) should be filed with: Kimberly D. Bose, Secretary, Federal Energy Regulatory Commission, 888 First Street, NE., Washington, DC 20426.

k. The District filed a comprehensive settlement agreement (Agreement) on behalf of itself, United States National Marine Fisheries Service, United States Forest Service, United States Fish and Wildlife Service, United States National Park Service, Washington Department of Fish and Wildlife, Washington Department of Ecology, Tulalip Tribes of Washington, Snohomish County, City of Everett, City of Sultan, and American Whitewater. The purpose of the Agreement is to resolve among the signatories all issues associated with issuance of a new license for the project, including, in part, reservoir operations, minimum instream flows, process flows, whitewater boating flows, ramping rates, fish passage, fish habitat improvements, wildlife habitat management, marbled murrelet protection measures, recreation, and historic properties management.

The District requests that the Commission: (1) Accept and incorporate, without material modification, all of the proposed license articles in Appendix 1 of the Settlement in the new project license; and (2) issue a new license for a term of 45 years.

l. The A copy of the Settlement Agreement is available for review at the Commission in the Public Reference Room or may be viewed on the Commission's Web site at http://www.ferc.gov, using the “e-Library” link. Enter the docket number, excluding the last three digits in the docket number field to access the document. For assistance, contact FERC Online Support at FERCOnlineSupport@ferc.gov or toll-free at 1-866-208-3676, or for TTY, (202) 502-8659. A copy is also available for inspection and reproduction at the address in item h above.

Register online at http://www.ferc.gov/esubscribenow.htm to be notified via e-mail of new filings and issuances related to this or other pending projects. For assistance, contact FERC Online Support.

m. Procedural Schedule: We are extending the due date to file interventions, recommendations, preliminary terms and conditions, and fishway prescriptions and reply comments on these filings to coordinate with the filing of comments on the Settlement. Therefore, the application will be processed according to the following Hydro Licensing Schedule. Revisions to the schedule may be made as appropriate.

Milestone | Target date
Filing of Interventions, Recommendations, Preliminary Terms and Conditions, and Fishway Prescriptions | November 6, 2009.
Reply Comments Due | December 21, 2009.
Issue Draft EA | May 5, 2010.
Comments on Draft EA Due | June 4, 2010.
Filing of Modified Mandatory Terms and Conditions | August 3, 2010.
Issue Final EA | November 1, 2010.

Kimberly D. Bose,
Secretary.

[FR Doc. E9-25400 Filed 10-21-09; 8:45 am]

BILLING CODE 6717-01-P